DEPARTMENT OF THE INTERIOR

Bureau of Indian Affairs

[267A2100DD/AAKC001030/A0A501010.000000]

Indian Energy Service Center; Receipt of Tribal Energy Resource Agreement for the Southern Ute Indian Tribe of the Southern Ute Reservation, Colorado

AGENCY: Bureau of Indian Affairs, Interior.

ACTION: Notice.

SUMMARY: This notice advises the public that the Department of the Interior (DOI) received a final proposed Tribal Energy Resource Agreement (TERA) for the Southern Ute Indian Tribe of the Southern Ute Reservation, Colorado (Tribe) to enter into energy-related leases, business agreements, and rights-of-way on Tribal lands, at the Tribe's discretion and without further Secretary's review and approval.

DATES: Interested persons are invited to submit comments on or before March 23, 2026.

ADDRESSES: Send your written comments regarding the final proposed TERA, or National Environmental Policy Act (NEPA) reviews related to the final proposed TERA, to:

• Email: TERA@bia.gov.

• Mail: 13922 Denver West Parkway, STE350, Lakewood, CO 80401.

FOR FURTHER INFORMATION CONTACT: Ms. Johnna Blackhair, Deputy Bureau Director, Office of Trust Services, Washington, DC 20240, (202) 809-2069.

SUPPLEMENTARY INFORMATION: The Indian Tribal Energy Development and Self-Determination Act of 2005, as amended by the Indian Tribal Energy Development and Self-Determination Act Amendments of 2017, authorizes Tribes, at their discretion, to apply for and enter into TERAs with the Secretary. A TERA allows Tribes to enter and manage energy-related leases, business agreements, and rights-of-way on Tribal land under 25 CFR part 224.

On January 30, 2026, the Secretary received a final proposed TERA from the Southern Ute Indian Tribe of the Southern Ute Reservation, Colorado.

• Final Proposed TERA: The Secretary of the Interior (Secretary) is considering a final proposed TERA for approval or disapproval and is requesting public comment.

• NEPA: The Secretary is conducting review under NEPA and is requesting public comment.

Final Proposed TERA

The Secretary must approve or disapprove a final proposed TERA within 270 days of the Secretary's receipt of a complete application for a TERA, see 25 CFR 224.74. An original proposed TERA is the TERA submitted with the application. After determining that a TERA application is complete, the Secretary must take certain steps in accordance with 25 CFR 224.57, after which the Tribe may submit a final proposed TERA. A final proposed TERA is effective on the date of signature by the Secretary, see 224.75; or if the Secretary fails to approve or disapprove a final proposed TERA within 270 days, the TERA takes effect on the 271st day after the Secretary's receipt of a complete application from a qualified Tribe, see 25 CFR 224.74. As required under 25 CFR 224.68, the Secretary will review and consider public comments in deciding to approve or disapprove the final proposed TERA.

Request for Public Comment

Please see the ADDRESSES section for methods to comment on a final proposed TERA. Please see the FOR FURTHER INFORMATION CONTACT for how to request and receive copies of or participate in any NEPA reviews, related to approval of the final proposed TERA.

Authority

The authority for this notice is 25 CFR part 224, the Indian Tribal Energy Development and Self-Determination Act of 2005, as promulgated in Title V of the Energy Policy Act of 2005, Public Law 109-58, 25 U.S.C. 3501-3504, and as amended by the Indian Tribal Energy Development and Self-Determination Act Amendments of 2017, Public Law 115-325.

William Henry Kirkland, III,
Assistant Secretary—Indian Affairs.

[FR Doc. 2026-03309 Filed 2-18-26; 8:45 am]

BILLING CODE 4337-15-P